COMMITTEE FOR PURCHASE FROM PEOPLE WHO ARE BLIND OR SEVERELY DISABLED

41 CFR Chapter 51

Unified Agenda of Federal Regulatory and Deregulatory Actions

AGENCY: Committee for Purchase From People Who Are Blind or Severely Disabled.

ACTION: Semiannual Regulatory Agenda.

SUMMARY: This agenda announces the proposed regulatory actions that the Committee for Purchase From People Who Are Blind or Severely Disabled (Committee) plans for the next 12 months. This agenda is issued in accordance with Executive Order 12866, “Regulatory Planning and Review”, and E.O. 13563, “Improving Regulation and Regulatory Review”. The Committee's purpose for publishing this agenda is to allow interested persons an opportunity to participate in the rulemaking process.

FOR FURTHER INFORMATION CONTACT: For further information on the agenda in general, contact Shelly Hammond, Director, Contracting and Policy, Committee for Purchase From People Who Are Blind or Severely Disabled, 1401 S Clark Street, Suite 715, Arlington, VA 22202; (703) 603-2127.

Dated: March 17, 2021.
Shelly Hammond,
Director of Contracting & Policy.

Committee for Purchase From People Who Are Blind or Severely Disabled—Prerule Stage
Sequence No. | Title | Regulation Identifier No.
201 | AbilityOne Program, Department of Defense Section 898, Contracting Oversight, Accountability and Integrity Panel (Rulemaking Resulting From a Section 610 Review) | 3037-AA14

COMMITTEE FOR PURCHASE FROM PEOPLE WHO ARE BLIND OR SEVERELY DISABLED (CPBSD)

Prerule Stage

201. AbilityOne Program, Department of Defense Section 898, Contracting Oversight, Accountability and Integrity Panel (Rulemaking Resulting From a Section 610 Review)

Legal Authority: 41 U.S.C. 85

Abstract: The Committee for Purchase from People Who Are Blind or Severely Disabled (Committee) are proposing revisions to 41 CFR, to incorporate specific recommendations from the Department of Defense (DoD) section 898 panel l review mandated by the National Defense Authorization Act for Fiscal Year 2017 (Pub. L. 114-328). The mission of the Panel is to assess the overall effectiveness and internal controls of the AbilityOne Program related to Department of Defense contracts and provide recommendations for changes in business practices. The proposed revisions to the Committee's regulation address: Responsibilities and procedures associated with authorization/de-authorization; transfer of work within the AbilityOne Program; undesignation and unauthorization of nonperforming nonprofit agencies; and incorporation of an Alternate Dispute Resolution process in matters regarding contract disputes.

Timetable:

Action | Date | FR Cite
ANPRM | 05/00/21 |

Regulatory Flexibility Analysis Required: No.

Agency Contact: Shelly Hammond, Director, Policy and Programs, Committee for Purchase From People Who Are Blind or Severely Disabled, 1401 S Clark Street, Suite 715, Arlington, VA 22202, Phone: 703 603-2127, Email: shammond@abilityone.gov.

RIN: 3037-AA14

[FR Doc. 2021-14881 Filed 7-29-21; 8:45 am]

BILLING CODE 6350-01-P